DEPARTMENT OF ENERGY

Federal Energy Regulatory Commission

Combined Notice of Filings

Take notice that the Commission has received the following Natural Gas & Oil Pipeline Rate and Refund Report filings:

Filings Instituting Proceedings

Docket Numbers: PR23-46-000.

Applicants: Energy Transfer Fuel, LP.

Description: § 284.123(g) Rate Filing: Energy Transfer Fuel LP Certification of Unchg State Rate to be effective 3/26/2023.

Filed Date: 4/20/23.

Accession Number: 20230420-5139.

Comment Date: 5 p.m. ET 5/11/23.

Protest Date: 5 p.m. ET 6/20/23.

Docket Numbers: PR23-47-000.

Applicants: Permian Highway Pipeline LLC.

Description: § 284.123(g) Rate Filing: Revised Fuel Allocation Provisions to be effective 4/1/2023.

Filed Date: 4/21/23.

Accession Number: 20230421-5084.

Comment Date: 5 p.m. ET 5/12/23.

Docket Numbers: RP23-693-000.

Applicants: Equitrans, L.P.

Description: § 4(d) Rate Filing: Equitrans Clean Up Filing—April 2023 to be effective 5/21/2023.

Filed Date: 4/20/23.

Accession Number: 20230420-5148.

Comment Date: 5 p.m. ET 5/2/23.

Docket Numbers: RP23-694-000.

Applicants: Equitrans, L.P.

Description: § 4(d) Rate Filing: FOSA Updates—April 2023 to be effective 5/21/2023.

Filed Date: 4/20/23.

Accession Number: 20230420-5149.

Comment Date: 5 p.m. ET 5/2/23.

Docket Numbers: RP23-695-000.

Applicants: Colorado Interstate Gas Company, L.L.C.

Description: § 4(d) Rate Filing: Non-Conforming Agreements Update (PSCo) to be effective 5/1/2023.

Filed Date: 4/20/23.

Accession Number: 20230420-5151.

Comment Date: 5 p.m. ET 5/2/23.

Docket Numbers: RP23-696-000.

Applicants: Florida Southeast Connection, LLC.

Description: Annual System Balancing Adjustment Report for 2023 of Florida Southeast Connection, LLC.

Filed Date: 4/20/23.

Accession Number: 20230420-5236.

Comment Date: 5 p.m. ET 5/2/23.

Docket Numbers: RP23-697-000.

Applicants: Alliance Pipeline L.P.

Description: Compliance filing: Action Alert—Request for Tariff Waiver to be effective N/A.

Filed Date: 4/21/23.

Accession Number: 20230421-5001.

Comment Date: 5 p.m. ET 5/3/23.

Docket Numbers: RP23-698-000.

Applicants: Sierrita Gas Pipeline LLC.

Description: § 4(d) Rate Filing: Sierrita Gas Pipeline Quarterly FL&U Filing April 2023 to be effective 6/1/2023.

Filed Date: 4/21/23.

Accession Number: 20230421-5066.

Comment Date: 5 p.m. ET 5/3/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR23-22-001.

Applicants: SCOOP Express, LLC.

Description: § 284.123(g) Rate Filing: ET SCOOP Express LLC submits tariff filing per 284.123(b)(2), (: ET Scoop Express LLC Amended SOC to be effective 12/15/2022.

Filed Date: 4/20/23.

Accession Number: 20230420-5137.

Comment Date: 5 p.m. ET 5/4/23.

Any person desiring to protest in any of the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2023.
Debbie-Anne A. Reese,
Deputy Secretary.

[FR Doc. 2023-08930 Filed 4-26-23; 8:45 am]

BILLING CODE 6717-01-P